DEPARTMENT OF DEFENSE

Department of the Navy

[USN-2007-0032]

Privacy Act of 1974; System of Records

AGENCY: Department of the Navy, DOD.

ACTION: Notice to add a system of records.

SUMMARY: The Department of the Navy proposes to add a system of records to its inventory of record systems subject to the Privacy Act of 1974 (5 U.S.C. 552a), as amended.

DATES: The proposed action will be effective on June 13, 2007 unless comments are received that would result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 325-6545.

SUPPLEMENTARY INFORMATION: The Department of the Navy's notices for systems of records subject to the Privacy Act of 1974 (5 U.S.C. 552a), as amended, have been published in the Federal Register and are available from the address above.

The proposed systems reports, as required by 5 U.S.C. 552a(r) of the Privacy Act, were submitted on May 2, 2007, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: May 8, 2007.
L.M. Bynum,
Alternate OSD Federal Register Liaison Officer, Department of Defense.

NM12713-1

System Name:

Equal Employment Opportunity (EEO) Complaints Tracking System.

System Location:

All Department of Navy (DON) Equal Employment Opportunity Program offices. DON activity addresses are published in the Standard Navy Distribution List that is available at http://doni.daps.dla.mil/sndl.aspx.

Categories of Individuals Covered by the System:

All DON civilians, non-appropriated fund employees, and external applicants for employment.

Categories of Records in the System:

Name, home and duty station address, phone numbers, unique identifier, dates and status of EEO complaints.

Authority for Maintenance of the System:

10 U.S.C. 5013, Secretary of the Navy; 10 U.S.C. 5041, Headquarters, Marine Corps; and Civilian Human Resources Manual 1614.1, Civilian Discrimination Complaints Management Program.

Purpose(s):

To track the status of Equal Employment Opportunity discrimination complaints for the Department of Navy.

Routine uses of Records Maintained in the System, including Categories of Users and the Purposes of Such Uses:

In addition to those disclosures generally permitted under 5 U.S.C. 552a(b) of the Privacy Act, these records or information contained therein may specifically be disclosed outside the DoD as a routine use pursuant to 5 U.S.C. 552a(b)(3) as follows:

To a duly appointed Hearing Examiner or Arbitrator (an employee of another Federal agency) for the purpose of conducting a hearing in connection with an employee's discrimination complaint.

To Equal Employment Opportunity Complaints Office of Federal Operations and Administrative Judges for review and adjudication.

The ‘Blanket Routine Uses’ that appear at the beginning of the Navy's compilation of systems of records also apply to this system.

Policies and Practices for Storing, Retrieving, Accessing, Retaining, and Disposing of Records in the System:

Storage:

Electronic storage media.

Retrievability:

Case number or individual's name.

Safeguards:

Password controlled system, files, and element access based on predefined need-to-know. Physical access to terminals, terminal rooms, buildings and activities' grounds are controlled by locked terminals and rooms, guards, personnel screening and visitor registers.

Retention and disposal:

Permanent.

System Manager(s) and Address:

Policy Official: Director, Naval Office of EEO Complaints Management and Adjudication, 614 Sicard Street SE, Bldg 201, Washington Navy Yard DC 20374-5072.

Record Holder:

Headquarters, and field activities employing civilians. DON activity addresses are published in the Standard Navy Distribution List that is available at http://doni.dla.mil/sndl.aspx.

Notification procedure:

Individuals seeking to determine whether information about themselves is contained in this system of records should address written inquiries to the to the EEO office where assigned. DON activity addresses are published in the Standard Navy Distribution List that is available at http://doni.dla.mil/sndl.aspx.

Requests should contain individual's full name and signed.

Record Access Procedures:

Individuals seeking access to information about themselves contained in this system of records should address written inquiries to their servicing EEO office. DON activity addresses are published in the Standard Navy Distribution List that is available at http://doni.dla.mil/sndl.aspx.

Request should contain individual's full name and signed.

Contesting Record Procedures:

The Navy's rules for accessing records, and for contesting contents and appealing initial agency determinations are published in Secretary of the Navy Instruction 5211.5; 32 CFR part 701; or may be obtained from the system manager.

Record source categories:

Individual, interviews, and Equal Employment Opportunity Program Offices.

Exemptions claimed for the system:

None.

[FR Doc. E7-9201 Filed 5-11-07; 8:45 am]

BILLING CODE 5001-06-P